DEPARTMENT OF HEALTH AND HUMAN SERVICES

45 CFR Parts 1385, 1386, 1387, and 1388

Administration for Community Living

45 CFR Parts 1321, 1322, 1323, 1324, 1325, 1326, 1327, and 1328

Administration for Community Living—Regulatory Consolidation

AGENCY: Administration for Community Living (ACL), Department of Health and Human Services (HHS).

ACTION: Final rule; technical amendments.

SUMMARY: The Administration for Community Living (ACL) is amending its regulations to reflect the creation of ACL in 2012 and consolidate all of its regulations under a single subchapter. No substantive changes to the text of the regulations are being made by this rule.

DATES: This final rule is effective on July 1, 2016.

FOR FURTHER INFORMATION CONTACT: Greg Pugh, Administration for Community Living, telephone (202) 795-7422 (Voice). This is not a toll-free number. This document will be made available in alternative formats upon request. Written correspondence can be sent to Administration for Community Living, U.S. Department of Health and Human Services, 330 C St. SW., Washington, DC 20201.

SUPPLEMENTARY INFORMATION: The Administration for Community Living (ACL) was created in 2012 by merging the HHS Administration on Aging (AoA), Administration on Intellectual and Developmental Disabilities (AIDD), and the Office of Disability (Statement of Organization Functions, and Delegations of Authority; Administration for Community Living, 77 FR 23250 (Apr. 28 2012)). This consolidation reflected these organizations' shared mission to maximize the independence, well-being, and health of older adults, people with disabilities across the lifespan, and their families and caregivers. Since the creation of ACL, a number of synergistic programs have been transferred under its purview, including the State Health Insurance Assistance Programs (SHIPs) from the Centers for Medicare and Medicaid Services (CMS) (Department of Health and Human Services Appropriations Act, 2014, Public Law 113-76 (Jan 17, 2014)) and the National Institute on Disability, Independent Living, and Rehabilitation Research (NIDILRR) and the Independent Living Administration from the Department of Education in 2014 (Workforce Investment and Opportunity Act of 2014, Public Law 113-128 (July 22, 2014)).

Many of ACL's component programs and organizations had existing regulations prior to their transfer. ACL is consolidating these regulations in a single place to streamline administration and increase access and transparency. This rule renames the Administration on Aging's subchapter C of chapter XIII, subtitle B, title 45 from “The Administration on Aging, Older Americans Programs” to “The Administration for Community Living.” It then rearranges the existing AoA rules sequentially. This rule also transfers the existing AIDD rules from subchapter I to ACL's subchapter C. Conforming edits are made throughout in order to correct internal citations.

Publication of this document constitutes final action on this change under the Administrative Procedures Act (5 U.S.C. 553). ACL has found that notice and public comment procedures are unnecessary because ACL is making a technical change merely updating the location and order of existing content.

This Final Rule will be effective July 1, 2016, in order to allow the Long Term Care Ombudsman final rule, one of the sections being renumbered within ACL's subchapter, to take effect.

Although this Final Rule contains no changes to programmatic or reporting requirements, we include the following table summarizing the changes made in order to simplify public understanding of the Final Rule:

Previous part | Previous heading | New part | New heading
45 CFR chapter XIII, subchapter C | The Administration on Aging | No change | The Administration for Community Living.
45 CFR part 1321 | Grants to State and Community Programs on Aging | No change | No change.
45 CFR part 1326 | Grants to Indian Tribes for Support and Nutrition Services | 1322 | No change.
45 CFR part 1327 | Allotments for Vulnerable Elder Rights Protection Activities | 1324 | No change.
45 CFR part 1328 | Grants for Supportive and Nutritional Services for Older Hawaiian Natives | 1323 | No change.
45 CFR part 1385 | Requirements Applicable to the Developmental Disabilities Program | 1325 | No change.
45 CFR part 1386 | Formula Grant Programs | 1326 | Developmental Disabilities Formula Grant Programs.
45 CFR part 1387 | Projects of National Significance | 1327 | Developmental Disabilities Projects of National Significance.
45 CFR part 1388 | National Network of University Centers For Excellence In Developmental Disabilities Education, Research, and Service | 1328 | No change.

List of Subjects in 45 CFR Parts 1321, 1322, 1323, 1324, 1325, 1326, 1327, 1328, 1385, 1386, 1387, and 1388

Administrative practice and procedures, Aged, Colleges and universities, Disabled, Grant programs—education, Grant programs—Indians, Grant programs—social programs, Indians, Individuals with disabilities, Legal services, Long-term care, Nutrition, Research, Reporting and recordkeeping requirements.

Dated: May 4, 2016.
Kathy Greenlee,
Administrator, Administration for Community Living.
Dated: May 26, 2016.
Sylvia M. Burwell
Secretary, U.S. Department of Health and Human Services.

For the reasons discussed in the preamble, under the authority at 5 U.S.C. 301, 42 U.S.C. 3001 et seq., and 42 U.S.C. 15001 et seq., the Department of Health and Human Services, the Administration for Community Living, and the Administration for Children and Families amend title 45, chapter XIII, subchapter C, and title 45, chapter XIII, subchapter I, respectively, as follows:

Subchapter C—The Administration for Community Living

1. The heading for 45 CFR chapter XIII, subchapter C, is revised to read as set forth above.

PARTS 1326, 1327, 1328, 1385, 1386, 1387, and 1388 [REDESIGNATED AS PARTS 1322, 1324, 1323, 1325, 1326, 1327, and 1328]

2. Parts 1326, 1327, 1328, 1385, 1386, 1387, and 1388 are redesignated as parts 1322, 1324, 1323, 1325, 1326, 1327, and 1328, respectively.

PART 1321—GRANTS TO STATE AND COMMUNITY PROGRAMS ON AGING

3. The authority citation for part 1321 continues to read as follows:

Authority: 42 U.S.C. 3001 et seq.; title III of the Older Americans Act as amended.

§ 1321.11 [Amended]

4. In § 1321.11, amend paragraph (b) by removing the reference “§ 1327.11(e)(3)” and adding in its place the reference “§ 1324.11(e)(3)”.

PART 1322—GRANTS TO INDIAN TRIBES FOR SUPPORT AND NUTRITION SERVICES

5. The authority citation for newly redesignated part 1322 continues to read as follows:

Authority: 42 U.S.C. 3001; Title VI, Part A of the Older Americans Act.

§§ 1322.3 and 1322.19 [Amended]

6. In the table below, for each section and paragraph indicated in the first two columns, remove the reference indicated in the third column and add the reference indicated in the fourth column:

Newly redesignated section | Paragraph(s) | Remove | Add
§ 1322.3 | Definition of “Budgeting period” | § 1326.19 of this part | § 1322.19.
§ 1322.3 | Definition of “Project period” | § 1326.19 of this part | § 1322.19.
§ 1322.3 | Definition of “Service area” | § 1326.9(b) | § 1322.9(b).
§ 1322.3 | Definition of “Tribal organization” | § 1326.7 | § 1322.7.
§ 1322.19 | (d)(5) | §§ 1326.7 through 1326.17 | §§ 1322.7 through 1322.17.

PART 1323—GRANTS FOR SUPPORTIVE AND NUTRITIONAL SERVICES FOR OLDER HAWAIIAN NATIVES

7. The authority citation for newly redesignated part 1323 continues to read as follows:

Authority: 42 U.S.C. 3001; Title VI Part B of the Older Americans Act.

§§ 1323.3 and 1323.19 [Amended]

8. In the table below, for each section and paragraph indicated in the first two columns, remove the reference indicated in the third column and add the reference indicated in the fourth column:

Newly redesignated section | Paragraph(s) | Remove | Add
§ 1323.3 | Definition of “Budgeting period” | § 1328.19 of this part | § 1323.19.
§ 1323.3 | Definition of “Project period” | § 1328.19 of this part | § 1323.19.
§ 1323.3 | Definition of “Service area” | § 1328.9(b) | § 1323.9(b).
§ 1323.19 | (d)(5) | §§ 1328.7 through 1328.17 | §§ 1323.7 through 1323.17.

PART 1324—ALLOTMENTS FOR VULNERABLE ELDER RIGHTS PROTECTION ACTIVITIES

9. The authority citation for newly redesignated part 1324 is revised to read as follows:

Authority: 42 U.S.C. 3001 et seq.

§§ 1324.1, 1324.11, 1324.13, 1324.15, and 1324.19 [Amended]

10. In the table below, for each section and paragraph indicated in the first two columns, remove the reference indicated in the third column and add the reference indicated in the fourth column:

Newly redesignated section | Paragraph(s) | Remove | Add
§ 1324.1 | Definition of “Representatives of the Office of the State Long-Term Care Ombudsman” | § 1327.19(a) | § 1324.19(a).
§ 1324.1 | Definition of “State Long-Term Care Ombudsman, or Ombudsman” | §§ 1327.13 and 1327.19 | §§ 1324.13 and 1324.19.
§ 1324.1 | Definition of “Willful interference” | § 1327.13 | § 1324.13.
§ 1324.1 | Definition of “Willful interference” | § 1327.19 | § 1324.19.
§ 1324.11 | (a) | § 1327.13 | § 1324.13.
§ 1324.11 | (a) | § 1327.19 | § 1324.19.
§ 1324.11 | (c) introductory text | §§ 1327.13 and 1327.19 | §§ 1324.13 and 1324.19.
§ 1324.11 | (e)(1)(i) | § 1327.13 | § 1324.13.
§ 1324.11 | (e)(2)(ii) and (iii) | §§ 1327.13 and 1327.19 | §§ 1324.13 and 1324.19.
§ 1324.11 | (e)(3)(i) | § 1327.13(e) | § 1324.13(e).
§ 1324.11 | (e)(3)(ii) introductory text | § 1327.19(b)(5) through (8) | § 1324.19(b)(5) through (8).
§ 1324.11 | (e)(3)(iv) | § 1327.19(b)(5) through (8) | § 1324.19(b)(5) through (8).
§ 1324.11 | (e)(4) introductory text and (e)(6)(i) | § 1327.21 | § 1324.21.
§ 1324.13 | (b)(1) | § 1327.11(e) | § 1324.11(e).
§ 1324.13 | (b)(2) | § 1327.19 | § 1324.19.
§ 1324.13 | (c) introductory text | § 1327.11(e)(6) | § 1324.11(e)(6).
§ 1324.13 | (c)(3) introductory text | § 1327.19 | § 1324.19.
§ 1324.15 | (b) | § 1327.11(e)(2) | § 1324.11(e)(2).
§ 1324.15 | (e) | §§ 1327.13 and 1327.19 | §§ 1324.13 and 1324.19.
§ 1324.15 | (f) | §§ 1327.11(e)(3) and 1327.13(e) | §§ 1324.11(e)(3) and 1324.13(e).
§ 1324.15 | (h) | § 1327.13(h) | § 1324.13(h).
§ 1324.15 | (i)(1)(ii) | §§ 1327.13 and 1327.19 | §§ 1324.13 and 1324.19.
§ 1324.15 | (k)(1) | § 1327.13(g) | § 1324.13(g).
§ 1324.15 | (k)(4) | § 1327.13(c)(2) | § 1324.13(c)(2).
§ 1324.15 | (k)(5) | § 1327.13(h) | § 1324.13(h).
§ 1324.19 | (b)(3) introductory text, (b)(6) introductory text, (b)(7) introductory text, and (b)(8) introductory text | § 1327.11(e)(3) | § 1324.11(e)(3).
§ 1324.21 | (d)(1) | § 1327.11(e)(4) | § 1324.11(e)(4).
§ 1324.21 | (d)(1) | § 1327.21(c) | § 1324.21(c).

PART 1325—REQUIREMENTS APPLICABLE TO THE DEVELOPMENTAL DISABILITIES PROGRAM

11. The authority citation for newly redesignated part 1325 continues to read as follows:

Authority: 42 U.S.C. 15001 et seq.

§§ 1325.1, 1325.3, 1325.6, and 1325.9 [Amended]

12. In the table below, for each section and paragraph indicated in the first two columns, remove the reference indicated in the third column and add the reference indicated in the fourth column:

Newly redesignated section | Paragraph(s) | Remove | Add
§ 1325.1 | Introductory text | § 1385.4 | § 1325.4.
§ 1325.3 | Introductory text | parts 1385 through 1388 | parts 1325 through 1328.
§ 1325.3 | Definition of “Required planning documents” | § 1386.30 | § 1326.30.
§ 1325.3 | Definition of “Required planning documents” | § 1386.22(c) | § 1326.22(c).
§ 1325.3 | Definition of “Required planning documents” | § 1388.7 | § 1328.7.
§ 1325.6 | Last sentence of paragraph | subpart E of 45 CFR part 1386 | subpart E of 45 CFR part 1326.
§ 1325.9 | (a) introductory text | parts 1386 and 1388 | parts 1326 and 1328.

PART 1326—DEVELOPMENTAL DISABILITIES FORMULA GRANT PROGRAMS

13. The authority citation for newly redesignated part 1326 continues to read as follows:

Authority: 42 U.S.C. 15001 et seq.

14. The part heading for newly redesignated part 1326 is revised to read as set forth above.

§§ 1326.21, 1326.26, 1326.93, and 1326.94 [Amended]

15. In the table below, for each section and paragraph indicated in the first two columns, remove the reference indicated in the third column and add the reference indicated in the fourth column:

Newly redesignated section | Paragraph(s) | Remove | Add
§ 1326.21 | (c) | § 1386.23(c) | § 1326.23(c).
§ 1326.26 | First sentence of paragraph | § 1386.25 | § 1326.25.
§ 1326.93 | (e) | § 1386.90 | § 1326.90.
§ 1326.94 | (b)(2) introductory text | § 1386.85(b) | § 1326.85(b).

PART 1327—DEVELOPMENTAL DISABILITIES PROJECTS OF NATIONAL SIGNIFICANCE

16. The authority citation for newly redesignated part 1327 continues to read as follows:

Authority: 42 U.S.C. 15001 et seq.

17. The part heading for newly redesignated part 1327 is revised to read as set forth above.

PART 1328—THE NATIONAL NETWORK OF UNIVERSITY CENTERS FOR EXCELLENCE IN DEVELOPMENTAL DISABILITIES, EDUCATION, RESEARCH, AND SERVICE

18. The authority citation for newly redesignated part 1328 continues to read as follows:

Authority: 42 U.S.C. 15001 et seq.

§§ 1328.2, 1328.3, and 1328.5 [Amended]

19. In the table below, for each section and paragraph indicated in the first two columns, remove the reference indicated in the third column and add the reference indicated in the fourth column:

Newly redesignated section | Paragraph(s) | Remove | Add
§ 1328.2 | (a)(2) | § 1388.3 | § 1328.3.
§ 1328.2 | (a)(2) | § 1385.3 | § 1325.3.
§ 1328.2 | (b) | § 1388.4 | § 1328.4.
§ 1328.3 | Introductory text | § 1388.2 | § 1328.2.
§ 1328.5 | (a) | § 1388.2 | § 1328.2.
§ 1328.5 | (b)(1) | § 1385.3 | § 1325.3.
§ 1328.5 | (c)(3) | § 1388.2(a)(1) and (2) | § 1328.2(a)(1) and (2).

Subchapter I [Removed and Reserved]

20. 45 CFR chapter XIII, subchapter I, is removed and reserved.

[FR Doc. 2016-13138 Filed 6-2-16; 8:45 am]

BILLING CODE P